NATIONAL SCIENCE FOUNDATION

Agency Information Collection Activities: Comment Request; Louis Stokes Alliances for Minority Participation (LSAMP) Program Evaluation; Withdrawal

AGENCY: National Science Foundation (NSF).

ACTION: Notice; withdrawal.

SUMMARY: The National Science Foundation published a notice in the Federal Register on September 23, 2024, that was inadvertently sent forward to publish and is a duplicate (with errors) of a notice published on October 2, 2024.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Background

On September 23, 2024, the National Science Foundation published in the Federal Register a notice for comments (FR Doc 2024-21845) that was inadvertently published (with errors) and is a duplicate of a notice published October 2, 2024 (FR Doc 2024-22588).

Retraction

From the Federal Register of September 23, 2024, the notice in the second column of page 77898 to the second column of 77899, is withdrawn (FR Doc 2024-21845). As such, FR Doc 2024-21845 should be disregarded.

Dated: October 4, 2024.
Suzanne H. Plimpton,
Reports Clearance Officer, National Science Foundation.

[FR Doc. 2024-23420 Filed 10-9-24; 8:45 am]

BILLING CODE 7555-01-P